OFFICE OF THE UNITED STATES TRADE REPRESENTATIVE

Notice of Proposed Changes to the Slate of Industry Trade Advisory Committees

AGENCY: Office of the United States Trade Representative.

ACTION: Notice and request for comments.

SUMMARY: The U.S. Trade Representative and the Secretary of Commerce (Secretary) plan to establish a new four-year charter term for the Industry Trade Advisory Committees (ITACs) beginning in February 2022. As part of the re-chartering process, the U.S. Trade Representative and the Secretary are proposing changes to the current slate of ITACs and invite interested parties to submit their view on these changes.

DATES: The deadline for submission of written comments is December 30, 2021.

ADDRESSES: We strongly encourage electronic submissions made through the Federal eRulemaking Portal: https://www.regulations.gov (Regulations.gov). Follow the submission instructions in section II below. The docket number is USTR-2021-0022. For alternatives to on-line submissions, please contact Ethan Holmes, Director of Private Sector Engagement, at ethan.m.holmes@ustr.eop.gov, before transmitting a comment and in advance of the deadline.

FOR FURTHER INFORMATION CONTACT: Ethan Holmes, Director of Private Sector Engagement, at ethan.m.holmes@ustr.eop.gov or (202) 881-9185. You can find additional information about the ITACs on the International Trade Administration website at: www.trade.gov/industry-trade-advisory-center.

SUPPLEMENTARY INFORMATION:

I. Background

Section 135 of the Trade Act of 1974, as amended (19 U.S.C. 2155), establishes a private-sector trade advisory system to ensure that U.S. trade policy and trade negotiation objectives adequately reflect U.S. commercial and economic interests. Section 135(c)(2) (19 U.S.C. 2155(c)(2)) directs the President to establish sectoral or functional trade advisory committees as appropriate, comprised of representatives of all industry, labor, agricultural, and services interests (including small business interests) in the sector or functional area. These committees provide detailed policy and technical advice, information, and recommendations regarding trade barriers, negotiation of trade agreements, and implementation of existing trade agreements affecting industry sectors, and perform other advisory functions relevant to U.S. trade policy matters as requested. In organizing these committees, the U.S. Trade Representative and the relevant Secretary consult with interested private organizations and consider:

• Patterns of actual or potential competition between United States industry and agriculture and foreign enterprise in international trade.

• the character of the nontariff barriers and other distortions affecting such competition.

• the necessity for reasonable limits on the number and size of advisory committees.

• in the case of each sectoral committee, that the product lines covered by each committee be reasonably related.

Pursuant to this authority, the U.S. Trade Representative and the Secretary established the ITACs to provide detailed policy and technical advice, information, and recommendations on trade policy matters including:

• Negotiating objectives and bargaining positions before entering into trade agreements.

• the impact of the implementation of trade agreements on the relevant sector.

• matters concerning the operation of any trade agreement once entered into.

• other matters arising in connection with the development, implementation, and administration of the trade policy of the United States.

The nonpartisan, industry input provided by the ITACs is important in developing unified trade policy objectives and positions when the United States negotiates and implements trade agreements. The ITACs address market-access problems, trade barriers, tariffs, discriminatory foreign procurement practices, and information, marketing, and advocacy needs of their industry sector. With limited statutory exceptions, the ITACs are subject to the provisions of the Federal Advisory Committee Act.

The charters of the current ITACs expire in February 2022, and the U.S. Trade Representative and Secretary intend to renew the ITACs for new four-year charter terms beginning in February 2022 and ending in February 2026. The list of ITACs for the current 2018-2022 charter term is as follows:

ITAC 1: Aerospace Equipment

ITAC 2: Automotive Equipment and Capital Goods

ITAC 3: Chemicals, Pharmaceuticals, Health/Science Products and Services

ITAC 4: Consumer Goods

ITAC 5: Forest Products, Building Materials, Construction, and Nonferrous Metals

ITAC 6: Energy and Energy Services

ITAC 7: Steel

ITAC 8: Digital Economy

ITAC 9: Small and Minority Business

ITAC 10: Services

ITAC 11: Textiles and Clothing

ITAC 12: Customs Matters and Trade Facilitation

ITAC 13: Intellectual Property Rights

ITAC 14: Standards and Technical Trade Barriers

For the 2022-2026 charter term, the U.S. Trade Representative and the Secretary propose to restructure the ITACs as follows based on the nature of the U.S. industry in various sectors, the level of interest in serving on an ITAC (using the number of members and applications for appointment during the 2018-2022 charter terms), the level of activity of each ITAC (using the number of meetings and recommendations submitted during the 2018-2022 charter terms), and constraints on the resources to support and engage with the ITACs:

• Dividing the current Industry Trade Advisory on Forest Products, Building Materials, Construction, and Nonferrous Metals into two separate committees with amended names: Industry Trade Advisory Committee on Critical Minerals and Nonferrous Metals (ITAC 5), and Industry Trade Advisory Committee on Forest Products and Building Materials (new ITAC 8).

• Changing the name of the ITAC on Small and Minority Business (ITAC 8) to the Industry Trade Advisory Committee on Small, Minority, and Woman-led Business to more accurately reflect the full scope of the ITAC's work.

• Establishing a Committee of Chairs of the ITACs to facilitate cross-sharing of information and provide a powerful tool to gather timely cross-cutting input across sectors.

This restructuring would result in 12 sectoral ITACs and 3 functional ITACs for the new four-year charter term, and an ITAC Committee of Chairs. The proposed slate of ITACs:

Committee of Chairs of the Industry Trade Advisory Committees

ITAC 1: Aerospace Equipment

ITAC 2: Automotive Equipment and Capital Goods

ITAC 3: Chemicals, Pharmaceuticals, Health/Science Products and Services

ITAC 4: Consumer Goods

ITAC 5: Critical Minerals and Nonferrous Metals

ITAC 6: Digital Economy

ITAC 7: Energy and Energy Services

ITAC 8: Forest Products and Building Materials

ITAC 9: Small, Minority, and Woman-led Business

ITAC 10: Services

ITAC 11: Steel

ITAC 12: Textiles and Clothing

ITAC 13: Customs Matters and Trade Facilitation

ITAC 14: Intellectual Property Rights

ITAC 15: Standards and Technical Trade Barriers

II. Request for Comments/Submission Instructions

In accordance with Section 135(c)(2)(A) (19 U.S.C. 2155(c)(2)) of the Trade Act, we invite written comments on the proposed changes to the slate of ITACs for the 2022-2026 charter term. The deadline for submitting comments is December 29, 2021.

All submissions must be in English and sent electronically via Regulations.gov using docket number USTR-2021-0022. To submit comments, locate the docket (folder) by entering the number USTR-2021-0022 in the `enter keyword or ID' window at the Regulations.gov home page and click `search.' The site will provide a search-results page listing all documents associated with this docket. Locate the reference to this notice by selecting `notice' under `document type' on the left side of the search-results page, and click on the link entitled `comment'.

Please provide comments in an attached document prepared in (or compatible with) Microsoft Word (.doc) or Adobe Acrobat (.pdf) formats. If you prepare the submission in a compatible format, please indicate the name of the relevant software application in the `type comment' field. You should name the file using the name of the person or entity submitting the comments. For further information on using Regulations.gov, please select `how to use Regulations.gov' on the bottom of any page.

Please do not attach separate cover letters to electronic submissions; rather, include any information that might appear in a cover letter in the comments themselves. Similarly, to the extent possible, please include any exhibits, annexes, or other attachments in the same file as the comment itself, rather than submitting them as separate files.

As noted, USTR strongly urges commenters to submit comments through Regulations.gov. You must make any alternative arrangements before transmitting a document and in advance of the relevant deadline by contacting Ethan Holmes, Director of Private Sector Engagement, at ethan.m.holmes@ustr.eop.gov.

USTR will place comments in the docket and they will be open to public inspection, except properly designated BCI. You can view comments on Regulations.gov by entering Docket Number USTR-2021-0022 in the `search' field on the home page.

Sirat Attapit,
Assistant United States Trade Representative for Intergovernmental Affairs and Public Engagement, Office of the United States Trade Representative.

[FR Doc. 2021-27537 Filed 12-20-21; 8:45 am]

BILLING CODE 3290-F2-P